DEPARTMENT OF ENERGY

Federal Energy Regulatory Commission

[Docket Nos. EC06-68-000, et al.]

Morgan Stanley, et al. Electric Rate and Corporate Filings

January 30, 2006.

The following filings have been made with the Commission. The filings are listed in ascending order within each docket classification.

1. Morgan Stanley

[Docket No. EC06-68-000]

Take notice that on January 24, 2006, Morgan Stanley tendered for filing with the Commission an application pursuant to section 203 of the Federal power Act seeking blanket authorization for the acquisition, directly or indirectly, of securities of electric utility companies, transmitting utilities or of any holding company over any electric utility company or transmitting utility, subject to certain proposed limitations.

Comment Date: 5 p.m. eastern time on February 6, 2006.

2. Elkem Metals Company—Alloy, L.P., et al. and Alloy Power Inc., et al.

[Docket No. EC06-69-000]

Take notice that on January 25, 2006, Elkem Metals Company—Alloy, L.P. (Elkem) and Alloy Power Inc. (Alloy Power) (collectively, Parties) and D.E. Shaw & Co., L.L.C., D.E. Shaw & Co. II, Inc., D.E. Shaw & Co., L.P. and D.E. Shaw & Co., Inc. (collectively, the Shaw-Related Entities and, together with Parties, Applicants), submitted an application pursuant to section 203 of the Federal Power Act for authorization of a disposition of a jurisdictional facilities whereby one-third of the limited partnership interests in Elkem would be transferred to Alloy Power. In addition, Applicants seek authorization for the Shaw-Related Entities to indirectly acquire securities in Elkem.

Comment Date: 5 p.m. eastern time on February 15, 2006.

3. BBPOP Wind Equity LLC, et al.

[Docket No. EC06-70-000]

Take notice that on January 25, 2006, BBPOP Wind Equity LLC (BBPOP Wind Equity), Kumeyaay Wind, LLC (Kumeyaay), Wind Park Bear Creek, LLC (Bear Creek), and Jersey-Atlantic Wind, LLC (Jersey-Atlantic) (for the last three entities, collectively, the Project Companies), and Babcock & Brown Wind Partners—U.S. LLC (BBWPUS) (collectively, Applicants) filed with the Commission an application pursuant to section 203 of the Federal Power Act for an order authorizing the indirect disposition of jurisdictional facilities in connection with the transfer and sale of upstream ownership interests in the jurisdictional facilities of the Project Companies. BBPOP Wind Equity and BBWPUS state that they are subsidiaries or affiliates of Babcock & Brown International Pty. Ltd. (BBIPL). The Project Companies which currently are owned indirectly in part by BBPOP Wind Equity, further state that they own wind energy generating facilities in operation in California, Pennsylvania and New Jersey and the proposed transactions are the transfer of upstream ownership interests in the Project Companies from BBPOP Wind Equity to BBWP and the potential temporary transfer of the membership interests in one or more of the Project Companies from BBPOP 3 to another wholly-owned BBPOP Wind Equity subsidiary.

Comment Date: 5 p.m. eastern time on February 15, 2006.

4. FPL Energy Duane Arnold, LLC

[Docket No. EG06-31-000]

Take notice that on January 26, 2006, FPL Energy Duane Arnold, LLC (Applicant), tendered for filing with the Commission an application for determination of exempt wholesale generator status pursuant to part 365 of the Commission's regulations.

Applicant states that it is a nuclear-powered facility with a nameplate capacity rating of 645 MW and is located in Palo, Iowa.

Comment Date: 5 p.m. eastern time on February 16, 2006.

5. City of Anaheim, California

[Docket No. EL06-24-000]

Take notice that on January 26, 2006, the City of Anaheim, California filed revisions of Appendix I to the OATT.

Comment Date: 5 p.m. eastern time on February 9, 2006.

6. Braintree Electric Light Department

[Docket No. EL06-48-000]

Take notice that on January 19, 2006, Braintree Electric Light Department (Braintree) submitted a petition pursuant to Rule 207(a)(2) of the Commission's Rules of Practice and Procedure (18 CFR 385.207(a)(2)) for a declaratory order determining that rates and charges associated with the costs of a reliability must-run (RMR) agreement between Braintree and ISO New England, Inc. as to Braintree's Potter 2 generating unit will satisfy the “just and reasonable” criteria of section 205 of the Federal Power Act.

Comment Date: 5 p.m. eastern time on February 21, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-1550 Filed 2-3-06; 8:45 am]

BILLING CODE 6717-01-P